FEDERAL DEPOSIT INSURANCE CORPORATION

FDIC Advisory Committee on Economic Inclusion; Notice of Charter Renewal

AGENCY: Federal Deposit Insurance Corporation (FDIC).

ACTION: Notice of renewal of the FDIC Advisory Committee on Economic Inclusion.

SUMMARY: Pursuant to the provisions of the Federal Advisory Committee Act (FACA), and after consultation with the General Services Administration, the Chairman of the Federal Deposit Insurance Corporation has determined that renewal of the FDIC Advisory Committee on Economic Inclusion (the Committee) is in the public interest in connection with the performance of duties imposed upon the FDIC by law.

FOR FURTHER INFORMATION CONTACT: Ms. Debra A. Decker, Committee Management Officer of the FDIC, at (202) 898-8748 or DeDecker@fdic.gov.

SUPPLEMENTARY INFORMATION: The Committee has been a successful undertaking by the FDIC and has provided valuable feedback to the agency on important initiatives focused on expanding access to banking services for underserved populations. The Committee will continue to provide advice and recommendations on initiatives to expand access to banking services for underserved populations. The Committee will continue to review various issues that may include, but not be limited to, basic retail financial services such as low-cost, sustainable transaction accounts, savings accounts, small dollar lending, prepaid cards, money orders, remittances, the use of new technologies, and other services to promote access to the mainstream banking system, asset accumulation, and financial stability. The structure and responsibilities of the Committee are unchanged from when it was originally established in November 2006. The Committee will continue to operate in accordance with the provisions of the Federal Advisory Committee Act, 5 U.S.C. 1001 et seq.

Federal Deposit Insurance Corporation.
Dated at Washington, DC, on November 21, 2024.
James P. Sheesley,
Assistant Executive Secretary.

[FR Doc. 2024-27672 Filed 11-25-24; 8:45 am]

BILLING CODE 6714-01-P